DEPARTMENT OF COMMERCE

International Trade Administration

(A-533-813)

Certain Preserved Mushrooms from India: Notice of Partial Rescission of Antidumping Duty Administrative Review

AGENCY: Import Administration, International Trade Administration, Department of Commerce.

EFFECTIVE DATE: July 28, 2006.

FOR FURTHER INFORMATION CONTACT: Terre Keaton or David J. Goldberger, Import Administration, International Trade Administration, U.S. Department of Commerce, 14th Street and Constitution Avenue, NW., Washington, DC 20230; telephone: (202) 482-1280 or (202) 482-4136, respectively.

SUPPLEMENTARY INFORMATION:

Background

On February 1, 2006, the Department published in the Federal Register (70 FR 5239) a notice of “Opportunity To Request Administrative Review” of the antidumping duty order on certain preserved mushrooms from India for the period February 1, 2005, through January 31, 2006. On February 28, 2006, Agro Dutch Industries, Ltd. (Agro Dutch) requested an administrative review of its sales. On February 28, 2006, the petitioner¹ requested an administrative review of the antidumping duty order for the following companies: Agro Dutch and Himalya International, Ltd. (Himalya). On April 5, 2006, the Department published a notice of initiation of an administrative review of the antidumping duty order on certain preserved mushrooms from India with respect to these companies. See Initiation of Antidumping and Countervailing Duty Administrative Reviews and Deferral of Administrative Reviews, 71 FR 17077 (April 5, 2006).

¹ The petitioner is the Coalition for Fair Preserved Mushroom Trade which includes: L.K. Bowman, Inc., Monterey Mushrooms, Inc., Mushroom Canning Company, and Sunny Dell Foods, Inc.

On July 10, 2006, the petitioner withdrew its request for review of Himalya and requested that the Department under 19 CFR 351.213(d)(1) retroactively extend the July 5, 2006, deadline to July 19, 2006, in order to consider its withdrawal request.

Partial Rescission of Review

Section 351.213(d)(1) of the Department's regulations stipulates that the Secretary will rescind an administrative review, in whole or in part, if a party that requested a review withdraws the request within 90 days of the date of publication of notice of initiation of the requested review, unless the Secretary decides that it is reasonable to extend this time limit. In this case, the petitioner withdrew its request for review of Himalya past the 90-day deadline. However, for the reasons stated in the petitioner's July 10, 2006, letter, we have retroactively extended the deadline to withdraw the review request, and accepted the petitioner's withdrawal request. Because the petitioner was the only party to request the administrative review of Himalya, we are rescinding, in part, this review of the antidumping duty order on certain preserved mushrooms from India with respect to Himalya. This review will continue with respect to Agro Dutch.

Assessment

The Department will instruct U.S. Customs and Border Protection (CBP) to assess antidumping duties on all appropriate entries. Antidumping duties for the rescinded company shall be assessed at a rate equal to the cash deposit of estimated antidumping duties required at the time of entry, or withdrawal from warehouse, for consumption, in accordance with 19 CFR 351.212(c)(1)(i). The Department will issue appropriate assessment instructions directly to CBP within 15 days of publication of this notice.

This notice is published in accordance with section 751 of the Tariff Act of 1930, as amended, and 19 CFR 351.213(d)(4).

Dated: July 24, 2006.
Stephen J. Claeys,
Deputy Assistant Secretary for Import Administration.

[FR Doc. E6-12123 Filed 7-27-06; 8:45 am]

BILLING CODE: 3510-DS-S